DEPARTMENT OF COMMERCE

International Trade Administration

[A-533-867]

Welded Stainless Pressure Pipe From India: Final Results of Expedited Sunset Review of the Antidumping Duty Order

AGENCY: Enforcement and Compliance, International Trade Administration, Department of Commerce.

SUMMARY: As a result of this expedited sunset review, the Department of Commerce (Commerce) finds that revocation of the antidumping duty (AD) order on welded stainless pressure pipe (WSPP) from India would be likely to lead to continuation or recurrence of dumping at the levels indicated in the “Final Results of Review” section of this notice.

DATES: Applicable February 1, 2022.

FOR FURTHER INFORMATION CONTACT: John Conniff, AD/CVD Operations, Office III, Enforcement and Compliance, International Trade Administration, U.S. Department of Commerce, 1401 Constitution Avenue NW, Washington, DC 20230; telephone: (202) 482-1009.

SUPPLEMENTARY INFORMATION:

Background

On October 1, 2021, Commerce published the notice of initiation of the sunset review of the AD order ¹ on WSPP from India, pursuant to section 751(c) of the Tariff Act of 1930, as amended (the Act).² On October 15, 2021, Commerce received a notice of intent to participate from the domestic producers ³ in the underlying investigation, within the deadline specified in 19 CFR 351.218(d)(1)(i).⁴ The domestic producers claimed domestic interested party status under section 771(9)(C) of the Act, as manufacturers of domestic like product in the United States.⁵ On October 29, 2021, the domestic producers submitted a timely substantive response within the 30-day deadline specified in 19 CFR 351.218(d)(3)(i).⁶ Commerce did not receive a substantive response from any other interested parties with respect to the Order covered by this sunset review, nor was a hearing requested. On November 30, 2021, Commerce notified the U.S. International Trade Commission that it did not receive an adequate substantive response from respondent interested parties.⁷ As a result, pursuant to section 751(c)(3)(B) of the Act and 19 CFR 351.218(e)(1)(ii)(C)(2), Commerce is conducting an expedited (120-day) sunset review of the Order.

¹ See Welded Stainless Pressure Pipe from India: Antidumping and Countervailing Duty Order, 81 FR 81062 (November 17, 2016) (Order).

² See Initiation of Five-Year (Sunset) Review, 86 FR 54423 (October 1, 2021).

³ The Domestic Producers are Bristol Metals, LLC, Felker Brothers Corporation, and Primus Pipe & Tube, Inc. (collectively, domestic producers).

⁴ See Domestic Producers' Letter, “Notice of Intent to Participate in the First Five-Year Review of the Antidumping Duty Order on Welded Stainless Pressure Pipe from India,” dated October 15, 2021.

⁵ Id. at 2.

⁶ See Domestic Producers' Letter, “Welded Stainless Pressure Pipe from India, First Review: Domestic Producers' Substantive Response to Notice of Initiation,” dated October 29, 2021.

⁷ See Commerce's Letter, “Sunset Reviews Initiated on October 1, 2021,” dated November 30, 2021.

Scope of the Order

The product covered by the Order is welded stainless pressure pipe from India. For a full description of the scope, see the Issues and Decision Memorandum.⁸

⁸ See Memorandum, “Issues and Decision Memorandum for the Final Results of Expedited First Sunset Review of the Antidumping Duty Order on Welded Stainless Pressure Pipe from India,” dated concurrently with, and hereby adopted by, this notice.

Analysis of Comments Received

All issues raised in this sunset review are addressed in the Issues and Decision Memorandum, including the likelihood of continuation or recurrence of dumping and the magnitude of the margins of dumping likely to prevail if the Order were revoked. A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. A complete version of the Issues and Decision Memorandum can be accessed directly at https://access.trade.gov/public/FRNotices/ListLayout.aspx. A list of the issues discussed in the decision memorandum is attached as an appendix to this notice.

Final Results of Sunset Review

Pursuant to sections 751(c) and 752(c) of the Act, Commerce determines that revocation of the Order would be likely to lead to continuation or recurrence of dumping, and that the magnitude of the dumping margins likely to prevail would be weighted-average margins of up to 12.66 percent.

Administrative Protective Order

This notice serves as the only reminder to parties subject to administrative protective order (APO) of their responsibility concerning the destruction of proprietary information disclosed under APO in accordance with 19 CFR 351.305(a). Timely notification of the destruction of APO materials or conversion to judicial protective orders is hereby requested. Failure to comply with the regulations and terms of an APO is a violation which is subject to sanction.

Notification to Interested Parties

We are issuing and publishing these final results in accordance with sections 751(c), 752(c), and 777(i)(1) of the Act, and 19 CFR 351.221(c)(5)(ii).

Dated: January 26, 2022.
Lisa W. Wang,
Assistant Secretary for Enforcement and Compliance.

Appendix—List of Topics Discussed in the Issues and Decision Memorandum

I. Summary

II. Background

III. Scope of the Order

IV. History of the Order

V. Legal Framework

VI. Discussion of the Issues

1. Likelihood of Continuation or Recurrence of Dumping

2. Magnitude of the Margins Likely to Prevail

VII. Final Results of Sunset Review

VIII. Recommendation

[FR Doc. 2022-01957 Filed 1-31-22; 8:45 am]

BILLING CODE 3510-DS-P